DEPARTMENT OF EDUCATION

[CFDA Number: 84.017A]

Office of Postsecondary Education; Overview Information; International Research and Studies Program

ACTION: Correction; Notice correcting the dates.

SUMMARY: We correct the Applications Available and Deadline for Transmittal of Applications dates in the notice published on January 24, 2007 (72 FR 3123).

SUPPLEMENTARY INFORMATION: On January 24, 2007, we published a notice in the Federal Register (72 FR 3123-3127) inviting applications for new awards for fiscal year (FY) 2007 for the International Research and Studies program. The Applications Available date (as published on pages 3123 and 3124) is corrected to February 12, 2007 and the Deadline for Transmittal of Applications date (as published on pages 3123 and 3124) is corrected to March 29, 2007.

FOR FURTHER INFORMATION CONTACT: Ed McDermott, International Education Programs Service, U.S. Department of Education, 1990 K Street, NW., suite 6082, Washington, DC 20006-8521. Telephone: (202) 502-7636 or by e-mail: ed.mcdermott@ed.gov.

If you use a telecommunications device for the deaf (TDD), you may call the Federal Relay Service (FRS) at 1-800-877-8339.

Individuals with disabilities may obtain this document in an alternative format (e.g., Braille, large print, audiotape, or computer diskette) on request to one of the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 7, 2007.
James F. Manning,
Delegated the Authority of Assistant Secretary for Postsecondary Education.

[FR Doc. E7-2361 Filed 2-9-07; 8:45 am]

BILLING CODE 4000-01-P